ENVIRONMENTAL PROTECTION AGENCY

[EPA-HQ-OPP-2007-0837; FRL-8391-2]

Malathion; Amendments to Terminate Uses

AGENCY: Environmental Protection Agency (EPA).

ACTION: Notice.

SUMMARY: This notice announces EPA's order for the amendments to terminate uses, voluntarily requested by the registrant and accepted by the Agency, of products containing the pesticide malathion, pursuant to section 6(f)(1) of the Federal Insecticide, Fungicide, and Rodenticide Act (FIFRA), as amended. This cancellation order follows an October 8, 2008 Federal Register Notice of Receipt of Request (73 FR 58952) (FRL-8384-1) from the malathion registrant to voluntarily terminate uses of their malathion product registrations. For the affected product registrations, this cancellation order terminates malathion use in or on commercial storage/warehouse premises (excluding stored grain facilities such as silos), commercial transportation facilities - feed/food - empty, commercial transportation facilities - nonfeed/nonfood, commercial/institutional/industrial premises/equipment (indoor), commercial/institutional/industrial premises/equipment (outdoor), dairies/cheese processing plant equipment (food contact), eating establishments, food processing plants (excluding stored grain facilities such as silos), golf course turf, greenhouse - empty, indoor hard surfaces, indoor premises, residential dust formulations, residential lawns (broadcast), residential pressurized can formulations, and sewage systems. These are not the last malathion products registered for use in the United States. In the October 8, 2008 Notice, EPA indicated that it would issue an order implementing the amendment to terminate uses, unless the Agency received substantive comments within the 30-day comment period that would merit its further review of these requests, or unless the registrant withdrew their request within this period. The Agency received comments on the notice but none merited its further review of the requests. Further, the registrant did not withdraw their request. Accordingly, EPA hereby issues in this notice a cancellation order granting the requested amendments to terminate uses. Any distribution, sale, or use of the malathion products subject to this cancellation order is permitted only in accordance with the terms of this order, including any existing stocks provisions.

DATES: The cancellations are effective December 3, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0837. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the amendments to terminate uses, as requested by a registrant, of certain manufacturing-use malathion products registered under section 3 of FIFRA. These registrations are listed in sequence by registration number in Table 1 of this unit.

Table 1.—Malathion Product Registration Amendments to Terminate Uses
EPA Registration Number | Product Name
4787-5 | Fyfanon Technical
4787-43 | Malathion Technical

Table 2 of this unit includes the name and address of record for the registrant of the products in Table 1 of this unit by EPA company number.

Table 2.—Registrant of Amended Malathion Products
EPA Company Number | Company Name and Address
4787 | Cheminova, Inc. Washington Office, 1600 Wilson Boulevard, Suite 700, Arlington, VA 22209

III. Summary of Public Comments Received and Agency Response to Comments

The Agency received four comments during the 30-day comment period. Two comments recommended cancellation of all malathion uses. However, neither comment provided a substantive rationale for the course of action suggested. A third comment suggested that termination of the use of malathion in greenhouses will limit control options for commercial growers treating ornamental grasses for cereal leaf beetle. Prior to publication of the malathion reregistration eligibility decision in 2006, the technical registrant for malathion requested that greenhouse uses be deleted from the malathion registrations. Consequently, potential risks associated with the use of malathion in greenhouses were not evaluated during the reregistration process. Also, the Agency has determined that there are several alternative chemicals which are suitable for control of cereal leaf beetle on ornamental grasses. The fourth comment indicated support for the continued use of malathion on mushrooms. This order does not address malathion use on mushrooms. For these reasons, the Agency does not believe that the comments submitted during the comment period merit further review or a denial of the requests for voluntary cancellation.

IV. Cancellation Order

Pursuant to FIFRA section 6(f), EPA hereby approves the requested amendments to terminate uses of malathion registrations identified in Table 1 of Unit II. Accordingly, the Agency orders that the malathion product registrations identified in Table 1 of Unit II. are hereby amended to terminate the affected uses. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

1. The registrant may continue to sell and distribute existing stocks of Fyfanon Technical, EPA Reg. No. 4787-5, and Malathion Technical, EPA Reg. No. 4787-43, with previously approved labeling that includes uses terminated by this cancellation order, until June 3, 2009.

2. Persons other than the registrant may continue to sell and/or distribute existing stocks of Fyfanon Technical, EPA Reg. No. 4787-5, and Malathion Technical, EPA Reg. No. 4787-43, with previously approved labeling that includes the terminated uses until such stocks are exhausted.

3. Persons other than the registrant may continue to use existing stocks of Fyfanon Technical, EPA Reg. No. 4787-5, and Malathion Technical, EPA Reg. No. 4787-43, with previously approved labeling that includes the terminated uses, provided that they are not used to formulate products labeled for any use described in Unit II. of this cancellation order, until such stocks are exhausted.

List of Subjects

Environmental protection, Pesticides and pests.

Dated: November 25, 2008.
Steven Bradbury,
Director, Special Review and Reregistration Division, Office of Pesticide Programs.

[FR Doc. E8-28664 Filed 12-2-08; 8:45 am]

BILLING CODE 6560-50-S